DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before September 5, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on August 4, 2025.
T. Glenn Foster,
Chief, Regulatory Review and Reinvention Branch, Office of Hazardous Materials Safety, Pipeline and Hazardous Materials Safety Administration.

Application No. | Applicant | Regulation(s) affected | Nature of the special permits thereof
Special Permits Data
22063-N | Arcwood Environmental, LLC | 173.12(c)(2) | To authorize the transportation in commerce by rail freight of previously used drums for the shipment of waste material transported for disposal or recovery. (mode 2).
22065-N | Alpine Aviation, Inc | 172.203(a), 175.700(b)(2)(ii), 175.701(a), 175.702(a)(2)(ii) | To authorize the carriage of radioactive materials aboard cargo-only aircraft when the combined transport index exceeds the authorized limit of 200 TI per aircraft, or the separation distance cannot be met. (mode 4).
22066-N | Entegris, Inc | 173.3(d)(2)(i) | To authorize the transportation of salvage cylinders that are not constructed and marked in accordance Section VIII, Division I of the ASME Code that contain specification cylinders that are damaged or leaking. (modes 1, 3).
22067-N | Amazon.com, Inc | 173.301(c), 173.306(a)(1) | To authorize the transportation in commerce of compressed gases (Argon, Carbon dioxide, Helium, and Nitrogen) in DOT specification pressure receptacles with a capacity of not more than 1 liter. (modes 1, 2, 3).
22068-N | Noble Walters & Associates Ltd | 172.102(c)(1) | To authorize the transportation in commerce of UN 3363 Dangerous goods in apparatus, containing a quantity of Division 4.2 Spontaneous Combustible Material. (mode 4).
22069-N | Spire Missouri Inc | 172.102(c)(7), 172.102(c)(8), 173.242, 173.302, 180.605(d), 180.605(e), 180.605(h)(1) | To authorize alternate testing procedures for DOT specification portable tanks. (mode 1).
22070-N | Chemring Energetic Devices, Inc | 172.320(a), 173.56(b), 173.62(a) | To authorize the transportation of previously approved explosives in non-specification packaging between Chemring Energetic Devices, Inc.'s manufacturing facilities. (mode 1).

[FR Doc. 2025-14940 Filed 8-5-25; 8:45 am]

BILLING CODE P